DEPARTMENT OF TREASURY

Internal Revenue Service

Internal Revenue Service Advisory Council (IRSAC); Nominations

AGENCY: Internal Revenue Service, Department of Treasury.

ACTION: Request for Nominations.

SUMMARY: The Internal Revenue Service (IRS) is requesting applications from individuals to be considered for selection as members of the Internal Revenue Service Advisory Council (IRSAC). Applications are currently being accepted for approximately 14 appointments that will begin in January 2021. Nominations may be submitted by individuals or organizations. IRSAC members are drawn from substantially diverse backgrounds representing a cross-section of the taxpaying public with substantial, disparate experience in tax preparation for individuals, small businesses and/or large, multi-national corporations; information reporting, tax-exempt and government entities; digital services; and professional standards of tax professionals. They should describe and document the proposed member's qualifications for IRSAC. In particular, the IRSAC is seeking applicants with knowledge and background in some of the following areas:

• Large Business & International—International tax expertise, experience as a certified public accountant or tax attorney working in or for a large, sophisticated organization, and/or experience working in-house at a major firm dealing with complex organizations.

• Small Business & Self-Employed—Experience with online or digital businesses, experience with audit representation, experience educating on tax issues and topics, knowledge of passthrough entities, and/or knowledge of fiduciary tax.

• Tax Exempt & Government Entities—Experience in exempt organizations and/or experience with Indian tribal governments.

• Wage & Investment—Knowledge of tax law application/tax preparation experience, familiarity with IRS tax forms and publications, knowledge of the audit process, experience educating on tax issues and topics, knowledge of income tax issues related to refundable credits, tax software industry experience, Volunteer Income Tax Assistance and Tax Counseling for the Elderly experience, experience marketing/applying industry benchmarks to operations, and/or financial services information technology background with knowledge of technology innovations in public and private customer service sectors.

The IRSAC serves as an advisory body to the Commissioner of Internal Revenue and provides an organized public forum for discussion of relevant tax administration issues between IRS officials and representatives of the public. The IRSAC proposes enhancements to IRS operations, recommends administrative and policy changes to improve taxpayer service, compliance and tax administration, discusses relevant information reporting issues, addresses matters concerning tax-exempt and government entities, and conveys the public's perception of professional standards and best practices for tax professionals.

This is a volunteer position. Members are not paid for their services. IRSAC members gather in Washington, DC, for approximately four, two-day working sessions and one public meeting per year. All travel expenses within government guidelines are reimbursed. Appointed by the Commissioner of Internal Revenue with the concurrence of the Secretary of the Treasury, IRSAC members serve three-year terms to allow for a rotation in membership and ensure that different perspectives are represented. In accordance with the Department of Treasury Directive 21-03, a clearance process, including annual tax compliance checks and a practitioner check with the IRS Office of Professional Responsibility, will be conducted. In addition, all applicants deemed “Best Qualified” shall undergo a Federal Bureau of Investigation fingerprint check.

DATES: Written nominations must be received on or before June 12, 2020.

ADDRESSES: Nominations should be submitted to: IRS National Public Liaison, ATTN: Anna Brown, via email to publicliaison@irs.gov or electronic fax to 855-811-8021. More information, including the application form, is available on the IRS website at https://www.irs.gov/tax-professionals/open-season-for-membership-in-the-internal-revenue-service-advisory-council-irsac-1.

FOR FURTHER INFORMATION CONTACT: Anna Brown at 202-317-6564 (not a toll-free number) or send an email to publicliaison@irs.gov.

SUPPLEMENTARY INFORMATION: The IRSAC is authorized under the Federal Advisory Committee Act, Public Law 92-463. The first Advisory Group to the Commissioner of Internal Revenue—or the Commissioner's Advisory Group (“CAG”)—was established in 1953 as a “national policy and/or issue advisory committee.” Renamed in 1998, the Internal Revenue Service Advisory Council (IRSAC) reflects the agency-wide scope of its focus as an advisory body to the entire agency.

All applicants will be sent an acknowledgment of receipt.

Equal opportunity practices will be followed for all appointments to the IRSAC in accordance with the Department of Treasury and IRS policies. The IRS has special interest in assuring that women and men, members of all races and national origins, and individuals with disabilities have an opportunity to serve on advisory committees. Therefore, the IRS encourages nominations from such appropriately qualified candidates.

Dated: April 22, 2020.
John A. Lipold,
Designated Federal Official, IRSAC.

[FR Doc. 2020-08919 Filed 4-27-20; 8:45 am]

BILLING CODE 4830-01-P